DEPARTMENT OF STATE

[Public Notice 5427]

Notice of Meeting of the Advisory Committee on International Law

A meeting of the Advisory Committee on International Law will take place on Friday, January 26, 2007, from 10 a.m. to approximately 4 p.m., in Room 1105 of the United States Department of State, 2201 C Street, NW., Washington, DC. The meeting will be chaired by the Legal Adviser of the Department of State, John B. Bellinger, III, and will be open to the public up to the capacity of the meeting room. Participants at the meeting will discuss a range of issues relating to current international legal topics, including the effectiveness of international trade law and international human rights law; issues related to the Geneva Conventions; the legal framework for detention and trial of international terrorists; and issues relating to the immunities of foreign states and international organizations and their respective officials.

Entry to the building is controlled and will be facilitated by advance arrangements. Members of the public who wish to attend the session should, by Wednesday, January 24, 2007, notify the Office of the Assistant Legal Adviser for Claims and Investment Disputes (telephone: 202-647-8351) of their name, date of birth; citizenship (country); ID number, i.e., U.S. government ID (agency), U.S. military ID (branch), passport (country) or driver's license (state); professional affiliation, address and telephone number in order to arrange admittance. This includes admittance for government employees as well as others. All attendees must use the “C” Street entrance. One of the following valid IDs will be required for admittance: any U.S. driver's license with photo, a passport, or a U.S. government agency ID. Because an escort is required at all times, attendees should expect to remain in the meeting for the entire morning or afternoon session.

Dated: January 10, 2007.
Karin L. Kizer,
Attorney Adviser, Office of Claims and Investment Disputes, Office of the Legal Adviser, Executive Director, Advisory Committee on International Law, Department of State.

[FR Doc. E7-512 Filed 1-12-07; 8:45 am]

BILLING CODE 4710-08-P